ENVIRONMENTAL PROTECTION AGENCY

40 CFR Part 62

[Region 2 Docket No. NJ57-251b; FRL-7459-5]

Approval and Promulgation of Plans for Designated Facilities; New Jersey; Delegation of Authority

AGENCY: Environmental Protection Agency (EPA).

ACTION: Proposed rule.

SUMMARY: The EPA is proposing approval of the New Jersey Department of Environmental Protection's request for delegation of authority to enforce and implement the Federal Plan (40 CFR part 60, subpart Cb) for Large Municipal Waste Combustors (MWC). In the “Rules and Regulations” section of this Federal Register, EPA is announcing its approval of the State's request as a direct final rule without prior proposal because the EPA views this as a noncontroversial action and anticipates no adverse comments. A detailed rationale for the approval is set forth in the direct final rule. If EPA receives no adverse comments, EPA will not take further action on this proposed rule. If EPA receives adverse comments, EPA will withdraw the direct final rule and it will not take effect. EPA will address all public comments in a subsequent final rule based on this proposed rule. The EPA will not institute a second comment period on this action. Any parties interested in commenting on this action should do so at this time.

DATES: Written comments must be received on or before April 7, 2003.

ADDRESSES: All comments should be addressed to: Raymond Werner, Chief, Air Programs Branch, Environmental Protection Agency, Region 2 Office, 290 Broadway, New York, New York 10007-1866.

Copies of the State submittal are available at the following addresses for inspection during normal business hours: Environmental Protection Agency, Region 2 Office, Air Programs Branch, 290 Broadway, 25th Floor, New York, New York 10007-1866.

New Jersey Department of Environmental Protection, Bureau of Air Pollution Control, 401 East State Street, Trenton, New Jersey 08625.

FOR FURTHER INFORMATION CONTACT: Kirk J. Wieber, Air Programs Branch, Environmental Protection Agency, 290 Broadway, 25th Floor, New York, New York 10278, (212) 637-3381.

SUPPLEMENTARY INFORMATION: For additional information see the direct final rule which is located in the Rules Section of this Federal Register.

Dated: February 21, 2003.
Jane M. Kenny,
Regional Administrator, Region 2.

[FR Doc. 03-5320 Filed 3-5-03; 8:45 am]

BILLING CODE 6560-50-P